DEPARTMENT OF HOMELAND SECURITY

Federal Emergency Management Agency

44 CFR Part 65

[Docket ID FEMA-2008-0020]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arizona: Maricopa (FEMA Docket No.: B-1019) | City of Phoenix (06-09-B582P) | December 27, 2007; January 3, 2008; Arizona Business Gazette | The Honorable Phil Gordon, Mayor, City of Phoenix, 200 West Washington Street, 11th Floor, Phoenix, AZ 85003-1611 | April 3, 2008 | 040051
California:
Fresno (FEMA Docket No.: B-1015) | Unincorporated areas of Fresno County (07-09-1791P) | August 26, 2008; September 2, 2008; The Fresno Bee | The Honorable Henry Perea, Chairman, Fresno County, Board of Supervisors 2281 Tulare Street, Room 300 Fresno, CA 93721 | June 16, 2008 | 065029
San Diego (FEMA Docket No.: B-1001) | City of Escondido (07-09-1345P) | July 24, 2008; July 31, 2008; San Diego Transcript | The Honorable Lori Holt Pfeiler Mayor, City of Escondido 201 North Broadway Escondido, CA 92025 | November 28, 2008 | 060290
Colorado:
Arapahoe (FEMA Docket No.: B-1001) | Unincorporated areas of Arapahoe County (08-08-0536P) | July 17, 2008; July 24, 2008; Aurora Sentinel | The Honorable Susan Beckman, Chair, Arapahoe County, Board of Commissioners, 5334 South Prince Street, Littleton, CO 80166-0001 | November 21, 2008 | 080011
Arapahoe (FEMA Docket No.: B-1001) | City of Aurora (08-08-0536P) | July 17, 2008; July 24, 2008; Aurora Sentinel | The Honorable Ed Tauer Mayor, City of Aurora, 15151 East Alameda Parkway, Aurora, CO 80012 | November 21, 2008 | 080002
Arapahoe (FEMA Docket No.: B-1001) | City of Centennial (08-08-0536P) | July 17, 2008; July 24, 2008; Aurora Sentinel | The Honorable Randy Pye, Mayor, City of Centennial, City of Centennial Office, 12503 East Euclid Drive, Suite 200 Centennial, CO 80111 | November 21, 2008 | 080315
Connecticut:
Fairfield (FEMA Docket No.: B-1019) | City of Stamford (08-01-0709P) | June 20, 2008; June 27, 2008; The Advocate | The Honorable Dannel P. Malloy, Mayor, City of Stamford, 888 Washington Boulevard, Stamford, CT 06904 | May 30, 2008 | 090015
Florida: Polk (FEMA Docket No.: B-1001) | City of Winter Haven (08-04-2591P) | July 17, 2008; July 24, 2008; Winter Haven News Chief | The Honorable Nathaniel Birdsong, Jr., Mayor, City of Winter Haven, 451 Third Street, Northwest, Winter Haven, FL 33881 | November 21, 2008 | 120271
Georgia: Columbia (FEMA Docket No.: B-1001) | Unincorporated areas of Columbia County (08-04-0423P) | July 27, 2008; August 3, 2008; Columbia County News-Times | The Honorable Ron C. Cross, Chairman, Columbia County, Board of Commissioners, P.O. Box 498, Evans, GA 30809 | December 2, 2008 | 130059
Idaho:
Ada (FEMA Docket No.: B-7776) | Unincorporated areas of Ada County (07-10-0624P) | February 28, 2008; March 6, 2008; Idaho Statesman | The Honorable Fred Tilman, Chairman, Ada County, Board of Commissioners, 200 West Front Street, Boise, ID 83702 | July 7, 2008 | 160001
Ada (FEMA Docket No.: B-7776) | City of Meridian (07-10-0624P) | February 28, 2008; March 6, 2008; Idaho Statesman | The Honorable Tammy De Weerd, Mayor, City of Meridian, 33 East Idaho Avenue, Meridian, ID 83642-2300 | July 7, 2008 | 160180
Illinois: Cook (FEMA Docket No.: B-1019) | Village of Barrington Hills (08-05-2649P) | May 22, 2008; May 29, 2008; Barrington Courier Review | The Honorable Robert G. Abboud, President, Village of Barrington Hills, 112 Algonquin Road, Barrington Hills, IL 60010 | April 30, 2008 | 170058
Iowa: Dallas (FEMA Docket No.: B-1008) | City of Grainger (08-07-0907P) | August 21, 2008; August 28, 2008; Northeast Dallas Record | The Honorable James Doyle, Mayor, City of Granger, 1906 Main Street, Granger, IA 50109 | July 31, 2008 | 190104
Maryland:
Carroll (FEMA Docket No.: B-1001) | Unincorporated areas of Carroll County (08-03-0973P) | July 31, 2008; August 7, 2008; Carroll County Times | The Honorable Julia Gouge, Commissioner, Carroll County, 225 North Center Street, Westminster, MD 21157 | December 5, 2008 | 240015
Carroll (FEMA Docket No.: B-1001) | City of Westminster (08-03-0973P) | July 31, 2008; August 7, 2008; Carroll County Times | The Honorable Thomas K. Ferguso,n Mayor, City of Westminster, 1838 Emerald Hill Lane, Westminster, MD 21158 | December 5, 2008 | 240018
New Mexico:
Sandoval (FEMA Docket No.: B-1001) | Town of Bernalillo (08-06-0693P) | July 17, 2008; July 24, 2008; Santa Fe New Mexican | The Honorable Patricia A. Chavez, Mayor, Town of Bernalillo, P.O. Box 638, Bernalillo, NM 87004 | November 21, 2008 | 350056
Sandoval (FEMA Docket No.: B-1001) | City of Rio Rancho (08-06-0693P) | July 17, 2008; July 24, 2008; Santa Fe New Mexican | The Honorable Thomas E. Swisstack, Mayor, City of Rio Rancho, 3200 Civic Center Circle, Northeast, Rio Rancho, NM 87144 | November 21, 2008 | 350146
Sandoval (FEMA Docket No.: B-1001) | Unincorporated areas of Sandoval County (08-06-0693P) | July 17, 2008; July 24, 2008; Santa Fe New Mexican | The Honorable Joshua Madalena, Chairman, Sandoval County Commission, Sandoval County Courthouse, 711 Camino Del Pueblo, Bernalillo, NM 87004 | November 21, 2008 | 350055
Ohio:
Franklin (FEMA Docket No.: B-1015) | Unincorporated areas of Franklin County (08-05-0337P) | August 20, 2008; August 27, 2008; Hilliard News | The Honorable Mary Jo Kilroy, Commissioner, Franklin County, 373 South High Street, 26th Floor, Columbus, OH 43215 | August 4, 2008 | 390167
Franklin (FEMA Docket No.: B-1015) | City of Hilliard (08-05-0337P) | August 20, 2008; August 27, 2008; Hilliard News | The Honorable Donald J. Schonhardt, Mayor, City of Hilliard, 3800 Municipal Way, Hilliard, OH 43026 | August 4, 2008 | 390175
Texas:
Bastrop (FEMA Docket No.: B-1019) | City of Bastrop (08-06-0048P) | July 9, 2008; July 16, 2008; Elgin Courier | The Honorable Terry Orr, Mayor, City of Bastrop, P.O. Box 427, Bastrop, TX 78602 | November 13, 2008 | 480022
Bastrop (FEMA Docket No.: B-1019) | Unincorporated areas of Bastrop County (08-06-0048P) | July 9, 2008; July 16, 2008; Elgin Courier | The Honorable Ronnie McDonald, Bastrop County Judge, 804 Pecan Street, Bastrop, TX 78602 | November 13, 2008 | 481193
Brazos (FEMA Docket No.: B-1008) | City of Bryan (08-06-0692P) | August 7, 2008; August 14, 2008; Bryan College Station Eagle | The Honorable D. Mark Conlee, Mayor, City of Bryan, 300 South Texas Avenue, Bryan, TX 77803 | July 25, 2008 | 480082
Brazos (FEMA Docket No.: B-1008) | City of College Station (08-06-1882P) | July 31, 2008; August 7, 2008; Bryan College Station Eagle | The Honorable Ben White, Mayor, City of College Station, 1101 Texas Avenue, College Station, TX 77840 | December 5, 2008 | 480083
Johnson (FEMA Docket No.: B-1011) | City of Burleson (08-06-0660P) | August 6, 2008; August 13, 2008; Burleson Star | The Honorable Kenneth Shetter, Mayor, City of Burleson, 141 West Renfro Street, Burleson, TX 76028 | December 11, 2008 | 485459
Travis (FEMA Docket No.: B-7785) | City of Austin (08-06-0658P) | May 1, 2008; May 8, 2008; Austin American Statesman | The Honorable Will Wynn, Mayor, City of Austin, P.O. Box 1088, Austin, TX 78767 | September 5, 2008 | 480624
Utah: Uintah (FEMA Docket No.: B-1001) | Unincorporated areas of Uintah County (08-08-0264P) | July 22, 2008; July 29, 2008; Uintah Basin Standard | The Honorable Mike McKee, Chairman, Uintah County, Board of Commissioners, 152 East 100 North, Vernal, UT 84078 | November 26, 2008 | 490147
Virginia:
Frederick (FEMA Docket No.: B-1001) | Unincorporated areas of Frederick County (08-03-1051P) | July 28, 2008; August 4, 2008; The Winchester Star | The Honorable Richard C. Shickle, Chairman At-Large, Frederick County, Board of Supervisors, 292 Green Spring Road, Winchester, VA 22603 | December 2, 2008 | 510063
Independent City (FEMA Docket No.: B-1019) | City of Lynchburg (08-03-0310P) | July 18, 2008; July 25, 2008; The Lynchburg Ledger | The Honorable Joan F. Foster, 900 Church Street, Lynchburg, VA 24504 | November 21, 2008 | 510093
Independent City (FEMA Docket No.: B-1001) | City of Winchester (08-03-1051P) | July 28, 2008; August 4, 2008; The Winchester Star | The Honorable Elizabeth Minor, Mayor, City of Winchester 231, East Piccadilly Street, Suite 310, Winchester, VA 22601 | December 2, 2008 | 510173
Independent City (FEMA Docket No.: B-7797) | City of Winchester (08-03-0801P) | May 8, 2008; May 15, 2008; The Winchester Star | The Honorable Elizabeth Minor, Mayor, City of Winchester, 231 East Piccadilly Street, Suite 310, Winchester, VA 22601 | September 12, 2008 | 510173
Wisconsin: Dane (FEMA Docket No.: B-1019) | Village of Waunakee (08-05-1363P) | August 14, 2008; August 21, 2008; Waunakee Tribune | Mr. Kim Wilde, Village Administrator, Village of Waunakee, 500 West Main Street, Waunakee, WI 53597 | November 26, 2008 | 550093
Wyoming:
Sweetwater (FEMA Docket No.: B-7761) | City of Rock Springs (07-08-0796P) | September 22, 2007; September 27, 2007; Rock Springs Daily Rocket-Miner | The Honorable Timothy A. Kaumo, Mayor, City of Rock Springs, 212 D Street, Rock Springs, WY 82901 | October 1, 2007 | 560051
Sweetwater (FEMA Docket No.: B-7761) | Unincorporated areas of Sweetwater County (07-08-0796P) | September 22, 2007; September 27, 2007; Rock Springs Daily Rocket-Miner | The Honorable Wally Johnson, Chairman, Sweetwater County, Board of Commissioners, 80 West Flamingo, Gorge Way Green River, WY 82935 | October 1, 2007 | 560087

(Catalog of Federal Domestic Assistance No. 97.022, “Flood Insurance.”)

Dated: January 6, 2009.
Michael K. Buckley,
Acting Assistant Administrator, Mitigation Directorate, Department of Homeland Security, Federal Emergency Management Agency.

[FR Doc. E9-6630 Filed 3-24-09; 8:45 am]

BILLING CODE 9110-12-P